GENERAL SERVICES ADMINISTRATION

[Notice-C0A-2023-01; Docket No. 2023-0002; Sequence No. 35]

Office of Human Resources Management; SES Performance Review Board

AGENCY: Office of Human Resources Management (OHRM), General Services Administration (GSA).

ACTION: Notice.

SUMMARY: Notice is hereby given of the appointment of new members to the GSA Senior Executive Service Performance Review Board. The Performance Review Board assures consistency, stability, and objectivity in the performance appraisal process.

DATES: Applicable: October 3, 2023.

FOR FURTHER INFORMATION CONTACT: Mr. Nathaniel Williams, Acting Director, Executive Resources Division, Office of Human Resources Management, GSA, 1800 F Street NW, Washington, DC 20405, or via telephone at (571) 513-9451.

SUPPLEMENTARY INFORMATION: Section 4314(c)(1) through (5) of title 5 U.S.C requires each agency to establish, in accordance with regulation prescribed by the Office of Personnel Management, one or more SES performance review board(s). The board is responsible for making recommendations to the appointing and awarding authority on the performance appraisal ratings and performance awards for employees in the Senior Executive Service.

The following have been designated as members of the Performance Review Board of GSA:

• Katy Kale, Deputy Administrator—PRB Chair.

• Christopher Bennethum, Assistant Commissioner for Assisted Acquisition Services, Federal Acquisition Service.

• Lesley Briante, Associate Chief Information Officer for Enterprise Planning & Governance, Office of GSA IT.

• Krystal Brumfield, Associate Administrator for Government-wide Policy, Office of Government-wide Policy.

• Andrew Heller, Deputy Commissioner for Enterprise Strategy, Public Buildings Service.

• Jeffrey Lau, Regional Commissioner, Federal Acquisition Service, Northeast and Caribbean Region.

• Dena McLaughlin, Regional Commissioner, Federal Acquisition Service, Mid-Atlantic Region.

• Flavio Peres, Assistant Commissioner for Real Property Disposition, Public Buildings Service.

• Joanna Rosato, Regional Commissioner, Public Buildings Service, Mid-Atlantic Region.

• Camille Sabbakhan, Deputy General Counsel, Office of the General Counsel.

Robin Carnahan,
Administrator, General Services Administration.

[FR Doc. 2023-21818 Filed 10-2-23; 8:45 am]

BILLING CODE 6820-FM-P